POSTAL REGULATORY COMMISSION

39 CFR Parts 3010, 3035, 3040

[Docket No. RM2023-5; Order No. 6446]

RIN 3211-AA34

Competitive Postal Products

AGENCY: Postal Regulatory Commission.

ACTION: Advanced notice of proposed rulemaking.

SUMMARY: The Commission initiates this advanced notice of proposed rulemaking to consider codifying regulations pertaining to the addition of Competitive negotiated service agreements to the Competitive product list. The Commission invites public comment.

DATES: Comments are due: March 31, 2023. Reply comments are due: April 10, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: The current procedures and standards for adding Negotiated Service Agreements (NSAs) to the Competitive product list have been addressed substantially through separate orders issued by the Commission in various dockets since 2008. Streamlining and codifying the rules pertaining to Competitive NSAs will provide increased clarity concerning filing requirements and the review process. Codifying such procedures and standards also provides an opportunity to make improvements to the practices and precedents that have developed, while maintaining the opportunities for pricing flexibility that NSAs afford the Postal Service. Thus, the Commission seeks comments to facilitate the development of such rules.

The Commission has developed a conceptual framework (Framework) that could outline enhancements to its regime for adding NSAs to the Competitive product list. The core feature of the Framework is the creation of a three-track system to review NSAs proposed to be added to the Competitive product list. A proposed NSA would be filed in one of three tracks, and each track would have distinct filing and review procedures providing different levels of scrutiny and streamlined review. The tracks would consist of a Standard NSA track, a Custom NSA track, and a non-published rates (NPR) NSA track. The intent is to preserve the Postal Service's existing contracting flexibility in the Custom NSA track, while providing for streamlined pre-implementation review for contracts that satisfy the eligibility requirements of the NPR NSA track or the Standard NSA track.

The Framework provides new filing and review procedures for the Standard NSA track. These procedures would include pre-approving financial models to streamline review of individual NSAs that reflect only existing Postal Service offerings. By contrast, filing and review procedures for NPR NSAs would generally follow current practices. Filing and review procedures under the Custom NSA track would resemble current, generally applicable filing and review practices for non-NPR NSAs.

By the Commission.
Erica A. Barker,
Secretary.

[FR Doc. 2023-04473 Filed 3-3-23; 8:45 am]

BILLING CODE 7710-FW-P